DEPARTMENT OF ENERGY

Federal Energy Regulatory Commission

[Docket Nos. RT01-99-000, 001, 002 003, RT01-87-000, RT01-95-000, 001, 002, RT01-86-000, 001, 002, RT01-2-000, 001, 002, 003, RT01-98-000, and EL02-65-000]

Regional Transmission Organizations, Midwest Independent System Operator, New York Independent System Operator, Inc., Bangor Hydro-Electric Company, PJM Interconnection, L.L.C., PJM Interconnection, L.L.C., Alliance Companies; Notice of Request for Comments on Timeline and Report by the Northeast Independent System on Seams Resolution

June 18, 2002.

At the meeting of the Federal Energy Regulatory Commission on June 12, 2002, the Midwest, New England, New York, and PJM independent system operators gave a presentation on their resolution of seams between markets. The Southwest Power Pool also attended the meeting. The New England, New York, and PJM independent system operators jointly submitted a timeline and report on their progress and plans for seams resolution. See Northeast ISO, “Seams Resolution” (2000-2004) (2002). http://www.ferc.gov/calendar/commissionmeetings/Discussion_papers/06-12-02/A3-ne_iso_seams_resolution.pdf; Northeast ISOs, Seams Resolution Report (2002) http://www.ferc.gov/calendar/commissionmeetings/Discussion_papers/06-12-02/A3-SeamsDetProjListing061202.pdf. The Federal Energy Regulatory Commission requested that these independent system operators incorporate the views of state commissions into the seams resolution plan. Toward this end, the Federal Energy Regulatory Commission advised the independent system operators to coordinate their efforts with the states.

Additionally, the Federal Energy Regulatory Commission will receive comments from the public and, in particular, state commissions on the timeline and report of the New England, New York, and PJM independent system operators. Comments will be due on July 10, 2002. Comments may be filed electronically on the Internet at www.ferc.fed.us under the “e-Filing” link. See 18 CFR 385.2001-2005 (instructions for making filings with the Federal Energy Regulatory Commission). To file comments on paper, submit the original and fourteen copies to the Secretary, Federal Energy Regulatory Commission, 888 First Street, NE., Washington, DC 20426.

A revised timeline of seams resolution by the New England, New York, and PJM independent system operators will be presented at the meeting of the Federal Energy Regulatory Commission on July 17, 2002. We strongly advise state commissions to file their comments electronically because of the imminent date of this meeting.

For additional information, please contact: Steve Rodgers, (202) 208-1247, Steve.Rodgers@ferc.gov, or Douglas Matyas, (202) 208-0890 Douglas.Matyas@ferc.gov at the Office of Markets, Tariffs, and Rates, Federal Energy Regulatory Commission, 888 First Street, NE., Washington, DC 20426.

Linwood A. Watson, Jr.,
Deputy Secretary.

[FR Doc. 02-15929 Filed 6-24-02; 8:45 am]

BILLING CODE 6717-01-P